DEPARTMENT OF COMMERCE

International Trade Administration

[A-428-840]

Lightweight Thermal Paper From Germany: Notice of Partial Rescission of Antidumping Duty Administrative Review

AGENCY: Import Administration, International Trade Administration, Department of Commerce.

DATES: Effective Date: April 16, 2012.

FOR FURTHER INFORMATION CONTACT: Stephanie Moore or George McMahon, AD/CVD Operations, Office 3, Import Administration, International Trade Administration, U.S. Department of Commerce, 14th Street and Constitution Avenue NW., Washington, DC 20230; telephone: (202) 482-3692 or (202) 482-1167, respectively.

SUPPLEMENTARY INFORMATION:

Background

On November 1, 2011, the Department of Commerce (the Department) published in the Federal Register a notice of “Opportunity to Request Administrative Review” of the antidumping duty order on lightweight thermal paper (thermal paper) from Germany for the period of review (POR) November 1, 2010, through October 31, 2011.¹

¹ See Antidumping or Countervailing Duty Order, Finding, or Suspended Investigation; Opportunity To Request Administrative Review, 76 FR 67413 (November 1, 2011).

On November 30, 2011, the Department received a timely request filed on behalf of Appleton Papers Inc. (petitioner) to conduct an administrative review of Mitsubishi HiTec Paper Flensburg GmbH, Mitsubishi HiTec Paper Bielefeld GmbH, and Mitsubishi International Corp. (collectively, Mitsubishi), and Papierfabrik August Koehler AG and Koehler America, Inc. (Koehler). On November 30, 2011, the Department also received a request filed on behalf of Mitsubishi HiTec Paper Europe GmbH to conduct an administrative review of Mitsubishi HiTec Paper Europe GmbH ² and a request filed on behalf of Koehler to conduct an administrative review of Koehler.

² Mitsubishi stated in its review request letter, dated November 30, 2011, “{a}s of October 15, 2010, and for purposes of streamlining in-house processes and organizational structure, Mitsubishi HiTec Paper Flensburg GmbH, and Mitsubishi HiTec Paper Bielefeld GmbH have merged and now operate as Mitsubishi HiTec Paper Europe GmbH.”

Pursuant to the aforementioned requests, the Department published in the Federal Register a notice of initiation of an administrative review of the antidumping duty order on thermal paper from Germany, covering two respondents, Mitsubishi and Koehler.³

³ See Initiation of Antidumping and Countervailing Duty Administrative Reviews and Request for Revocation in Part, 76 FR 82268 (December 30, 2011) (Notice of Initiation).

Partial Rescission of the 2010-2011 Administrative Review

On March 29, 2011, petitioner and Mitsubishi withdrew their respective requests for review of Mitsubishi. Pursuant to 19 CFR 351.213(d)(1), the Secretary will rescind an administrative review, in whole or in part, if the parties that requested a review withdraw the request within 90 days of the date of publication of the notice of initiation of the requested review. The instant review was initiated on December 30, 2011. See Notice of Initiation. The petitioner and Mitsubishi's withdrawals of their respective requests for a review of Mitsubishi fall within the 90-day deadline for rescission by the Department, and no other party requested an administrative review of this particular respondent. Therefore, in accordance with 19 CFR 351.213(d)(1), and consistent with our practice, we are rescinding this review with respect to Mitsubishi.⁴ The instant review will continue with respect to Koehler.

⁴ See, e.g., Certain Lined Paper Products From India: Notice of Partial Rescission of Antidumping Duty Administrative Review and Extension of Time Limit for the Preliminary Results of Antidumping Duty Administrative Review, 74 FR 21781 (May 11, 2009).

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protective orders (APO) of their responsibility concerning the disposition of proprietary information disclosed under an APO in accordance with 19 CFR 351.305(a)(3). Timely written notification of the return/destruction of APO materials or conversion to judicial protective order is hereby requested. Failure to comply with the regulations and terms of an APO is a sanctionable violation.

We have been enjoined from liquidating entries of the subject merchandise produced and/or exported by Mitsubishi. Therefore, we do not intend to issue liquidation instructions to U.S. Customs and Border Protection (CBP) for such entries entered on or after November 1, 2009, until such time as the preliminary injunction issued on March 17, 2009, is lifted.

This notice is issued and published in accordance with sections 751(a)(1) and 777(i)(1) of the Tariff Act of 1930, as amended, and 19 CFR 351.213(d)(4).

Dated: April 5, 2012.
Edward C. Yang,
Acting Deputy Assistant Secretary for Antidumping and Countervailing Duty Operations.

[FR Doc. 2012-9059 Filed 4-13-12; 8:45 am]

BILLING CODE 3510-DS-P